INTERNATIONAL TRADE COMMISSION

[Investigation No. 731-TA-739 (Fourth Review)]

Clad Steel Plate From Japan

Determination

On the basis of the record ¹ developed in the subject five-year review, the United States International Trade Commission (“Commission”) determines, pursuant to the Tariff Act of 1930 (“the Act”), that revocation of the antidumping duty order on clad steel plate from Japan would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted this review on January 2, 2018 (83 FR 148) and determined on April 9, 2018 that it would conduct a full review (83 FR 17446, April 19, 2018). Notice of the scheduling of the Commission's review and of a public hearing to be held in connection therewith was given by posting copies of the notice in the Office of the Secretary, U.S. International Trade Commission, Washington, DC, and by publishing the notice in the Federal Register on July 17, 2018 (83 FR 33250). The Commission cancelled the hearing scheduled on October 18, 2018 following a request by the sole party to the proceeding (83 FR 53295, October 22, 2018). In lieu of a hearing, the domestic producers responded to written questions submitted by the Commission, as part of their post-hearing brief.

The Commission made this determination pursuant to section 751(c) of the Act (19 U.S.C. 1675 (c)). It completed and filed its determination in this review on December 6, 2018. The views of the Commission are contained in USITC Publication 4851 (December 2018), entitled Clad Steel Plate from Japan: Investigation No. 731-TA-739 (Fourth Review).

By order of the Commission.
Issued: December 6, 2018.
Lisa Barton,
Secretary to the Commission.

[FR Doc. 2018-26845 Filed 12-11-18; 8:45 am]

BILLING CODE 7020-02-P